U.S.-CHINA ECONOMIC AND SECURITY REVIEW COMMISSION

Notice of Open Public Roundtable; Correction

AGENCY: U.S.-China Economic and Security Review Commission.

ACTION: Notice of open public roundtable; correction.

SUMMARY: The U.S.-China Commission published a document in the Federal Register on July 3, 2017, concerning notice of an open public roundtable to be held in Washington, DC to inform production of the Commission's 2017 Annual Report to Congress. The time for this roundtable has changed.

FOR FURTHER INFORMATION CONTACT: Alexis Brigmon, 202-624-1454.

Corrections:

In the Federal Register of July 3, 2017 in FR Doc. 2017-13993, on page 30943-30944, in the third column, correct the Dates caption to read:

DATES: The meeting is scheduled for Wednesday, July 12, 2017, from 9:30 a.m. to 12:30 p.m.

Michael Danis,
Executive Director, U.S.-China Economic and Security Review Commission.

[FR Doc. 2017-14508 Filed 7-11-17; 8:45 am]

BILLING CODE 1137-00-P